DEPARTMENT OF ENERGY

Federal Energy Regulatory Commission

[Project No. 2192-022—WI]

Consolidated Water Power Company; Notice of Availability of Draft Environmental Assessment

May 12, 2006.

In accordance with the National Environmental Policy Act of 1969 and the Federal Energy Regulatory Commission's (Commission) regulations, 18 CFR part 380 (Order No. 486, 52 FR 47897), the Office of Energy Projects has reviewed an application for the conveyance and acquisition of project lands at the Biron Project (FERC No. 2192), and has prepared a draft environmental assessment (DEA) for the proposal. The proposed project land exchange would occur on the Biron reservoir in Wood County, Wisconsin.

In the application, Consolidated Water Power (licensee) requests Commission authorization to exchange approximately 3.14 acres of licensee-owned lands with 3,000 linear feet of shoreline along the Biron flowage, for three different parcels of land totaling approximately 205.213 total acres. The first parcel has 830 linear feet of river shoreline and consists of 47.546 acres. The second parcel has 126 linear feet of river shoreline and consists of 2.960 acres, abutting an existing licensee-owned boat launch. The third parcel consists of islands in the river, peninsulas, and a roadside access totaling 154.84 acres (48.82 acres above water). These island perimeters, peninsulas, and the roadside access total 33,749 linear feet of waterfront. All lands are currently within the project boundary, and the licensee intends to retain flowage rights over any conveyed lands, and to retain all lands within the project boundary. The DEA contains the Commission staff's analysis of the probable environmental impacts of the licensee's land-exchange proposal.

The DEA is available for review and reproduction at the Commission's Public Reference Room, located at 888 First Street, NE., Room 2A, Washington, DC 20426. The DEA may also be viewed on the Commission's Web site at http://www.ferc.gov using the “elibrary” link. Enter the docket number (P-2192-022) excluding the last three digits, in the docket number field to access the document. For assistance, contact FERC Online Support at FERCOnlineSupport@ferc.gov or toll-free at (866) 208-3676, or for TTY, contact (202) 502-8659.

Comments on the DEA should be filed within 30 days of the date of this notice and should be addressed to Magalie R. Salas, Secretary, Federal Energy Regulatory Commission, 888 First Street, NE., Washington, DC 20426. Please reference “Biron Project, FERC Project No. 2192-022” on all comments. Comments may be filed electronically via the Internet in lieu of paper. See, 18 CFR 385.2001(a)(1)(iii) and the instructions on the Commission's Web site under the “e-Filing” link.

Magalie R. Salas,
Secretary.

[FR Doc. E6-7695 Filed 5-19-06; 8:45 am]

BILLING CODE 6717-01-P